DEPARTMENT OF ENERGY

Federal Energy Regulatory Commission

[Project No. 2009-048]

Virginia Electric and Power Company, dba Dominion Virginia Power/Dominion North Carolina Power; Notice Rejecting Request for Rehearing

July 1, 2005.

By order issued May 17, 2005,¹ Commission staff approved and modified a dissolved oxygen monitoring plan filed by the licensee for the Roanoke Rapids and Gaston Project No. 2009, located on the Roanoke River in Brunswick and Mecklenburg Counties, Virginia, and in Halifax, Northampton, and Warren Counties, North Carolina. On June 16, 2005, the North Carolina Department of Environment and Natural Resources (North Carolina DENR) filed a request for rehearing of the order, without an accompanying notice or motion to intervene.

¹ 111 FERC ¶ 62,170.

Under section 313(a) of the Federal Power Act, 16 U.S.C. 825l(a), a request for rehearing may be filed only by a party to the proceeding. While North Carolina DENR was an intervenor in the licensing proceedings for the Roanoke Rapids and Gaston Project, party status is not carried over to post-licensing proceedings.² Accordingly, in order for North Carolina DENR, whose water quality division was a consulted agency on the dissolved oxygen monitoring plan, to be a party to this proceeding, it must have filed a motion to intervene pursuant to Rule 214 of the Rules of Practice and Procedure, 18 CFR 385.214, not later than 30 days after issuance of the May 17, 2005 order (June 16, 2005).³ As noted above, North Carolina DENR did not file a notice or motion to intervene and therefore, the request for rehearing is hereby rejected.

² See Joseph M. Keating, 40 FERC ¶ 61,254 (1987).

³ See Pacific Gas and Electric Company, 40 FERC ¶ 61,035 (1987).

This notice constitutes final agency action. Request for rehearing by the Commission of this rejection notice must be filed within 30 days of the date of issuance of this notice, pursuant to 18 CFR 385.713.

Magalie R. Salas,
Secretary.

[FR Doc. E5-3604 Filed 7-7-05; 8:45 am]

BILLING CODE 6717-01-P